DEPARTMENT OF STATE

[Public Notice: 10329]

In the Matter of the Designation of ISIS-Bangladesh (and Other Aliases) as a Foreign Terrorist Organization Pursuant to Section 219 of the Immigration and Nationality Act, as Amended

Based upon a review of the Administrative Record assembled in this matter, and in consultation with the Attorney General and the Secretary of the Treasury, I conclude that there is a sufficient factual basis to find that the relevant circumstances described in section 219 of the Immigration and Nationality Act, as amended (hereinafter “INA”) (8 U.S.C. 1189), exist with respect to ISIS-Bangladesh, also known as Caliphate in Bangladesh, also known as Caliphate's Soldiers in Bangladesh, also known as Soldiers of the Caliphate in Bangladesh, also known as Khalifah's Soldiers in Bengal, also known as Islamic State Bangladesh, also known as Islamic State in Bangladesh, also known as ISB, also known as ISISB, also known as Abu Jandal al-Bangali, also known as Neo-JMB, also known as Neo-Jamaat-ul Mujahideen Bangladesh, also known as New-JMB.

Therefore, I hereby designate the aforementioned organization and its aliases as a foreign terrorist organization pursuant to section 219 of the INA.

This determination shall be published in the Federal Register.

Dated: December 11, 2017.
Rex W. Tillerson,
Secretary of State.

[FR Doc. 2018-03999 Filed 2-27-18; 8:45 am]

BILLING CODE 4710-AD-P